DEPARTMENT OF COMMERCE

International Trade Administration

[A-580-876, A-489-822]

Welded Line Pipe From the Republic of Korea and the Republic of Turkey: Final Results of the Expedited First Sunset Reviews of the Antidumping Duty Orders

AGENCY: Enforcement and Compliance, International Trade Administration, Department of Commerce.

SUMMARY: As a result of these expedited sunset reviews, the Department of Commerce (Commerce) finds that revocation of the antidumping duty (AD) orders on welded line pipe from the Republic of Korea (Korea) and the Republic of Turkey (Turkey) would be likely to lead to the continuation or recurrence of dumping at the levels indicated in the “Final Results of Review” section of this notice.

DATES: Applicable March 2, 2021.

FOR FURTHER INFORMATION CONTACT: Ian Hamilton AD/CVD Operations, Office II, Enforcement and Compliance, International Trade Administration, U.S. Department of Commerce, 1401 Constitution Avenue NW, Washington, DC 20230; telephone: (202) 482-4798.

SUPPLEMENTARY INFORMATION:

Background

On December 1, 2015, Commerce published the AD Orders on welded line pipe from Korea and Turkey.¹ On November 3, 2020, Commerce published the notice of initiation of the first sunset review of the AD Orders, pursuant to section 751(c) of the Tariff Act of 1930, as amended (the Act).² In November 2020, Commerce received notices of intent to participate within the 15-day deadline specified in 19 CFR 351.218(d)(1)(i) from Axis Pipe and Tube (Axis); California Steel Industries; Tex-Tube Company; Welspun Tubular LLC; Wheatland Tube Company; American Cast Iron Pipe Company (ACIPCO); Stupp Corporation; Maverick Tube Corporation (Maverick); and IPSCO Tubulars Inc. (collectively, domestic interested parties).³ The domestic interested parties claimed interested party status under section 771(9)(C) of the Act as manufacturers, producers, or wholesalers in the United States of a domestic like product.

¹ See Welded Line Pipe from the Republic of Korea and the Republic of Turkey: Antidumping Duty Orders, 80 FR 75056 (December 1, 2015) (AD Orders); see also Welded Line Pipe from the Republic of Korea: Notice of Court Decision Not in Harmony With the Amended Final Determination in the Less-Than-Fair-Value Investigation, and Notice of Amended Final Determination and Amended Antidumping Duty Order, 85 FR 19437 (April 7, 2020); Welded Line Pipe from the Republic of Turkey: Notice of Court Decision Not in Harmony With the Final Determination in the Less Than Fair Value Investigation and Notice of Amended Final Determination and Amended Antidumping Duty Order, 84 FR 4772 (February 19, 2019).

² See Initiation of Five-Year (Sunset) Reviews, 85 FR 69585 (November 3, 2020).

³ See Axis' Letter, “Notice of Intent to Participate in the First Five-Year Review of the Antidumping Duty Order on Certain Welded Line Pipe from Korea,” dated November 13, 2020; Maverick's Letter, “Notice of Intent to Participate in First Sunset Review of the Antidumping Duty Order on Welded Line Pipe from the Republic of Korea,” dated November 16, 2020; ACIPCO's Letter, “Welded Line Pipe from the Republic of Korea: Notice of Intent to Participate in Sunset Review,” dated November 18, 2020; Axis' Letter, “Notice of Intent to Participate in the First Five-Year Review of the Antidumping Duty Order on Certain Welded Line Pipe from Turkey,” dated November 13, 2020; Maverick's Letter, “Notice of Intent to Participate in First Sunset Reviews of the Antidumping and Countervailing Duty Orders on Welded Line Pipe from Turkey,” dated November 16, 2020; and ACIPCO's Letter, “Welded Line Pipe from the Republic of Turkey: Notice of Intent to Participate in Sunset Review,” dated November 18, 2020.

On December 3, 2020, Commerce received an adequate substantive response to the notice of initiation from the domestic interested parties within the 30-day deadline specified in 19 CFR 351.218(d)(3)(i).⁴ We received no substantive responses from respondent interested parties with respect to either of the orders covered by these sunset reviews.

⁴ See Domestic Interested Parties' Letter, “Welded Line Pipe from the Republic of Korea: Substantive Response to the Notice of Initiation of Sunset Review,” dated December 3, 2020; see also Domestic Interested Parties' Letter, “Welded Line Pipe from Turkey: Substantive Response of Domestic Producers to Commerce's Notice of Initiation of Five-Year (“Sunset”) Reviews,” dated December 3, 2020.

On December 28, 2020, Commerce notified the U.S. International Trade Commission that it did not receive an adequate substantive response from respondent interested parties.⁵ As a result, pursuant to 751(c)(3)(B) of the Act and 19 CFR 351.218(e)(1)(ii)(C)(2), Commerce conducted expedited (120-day) sunset reviews of the AD Orders.

⁵ See Commerce's Letter, “Sunset Review for November 2020,” dated December 23, 2020.

Scope of the Orders

The scope of these orders is circular welded carbon and alloy steel (other than stainless steel) pipe of a kind used for oil or gas pipelines (welded line pipe), not more than 24 inches in nominal outside diameter, regardless of wall thickness, length, surface finish, end finish, or stenciling. Welded line pipe is normally produced to the American Petroleum Institute (API) specification 5L, but can be produced to comparable foreign specifications, to proprietary grades, or can be non-graded material. All pipe meeting the physical description set forth above, including multiple-stenciled pipe with an API or comparable foreign specification line pipe stencil is covered by the scope of these orders.

The welded line pipe that is subject to these orders is currently classifiable in the Harmonized Tariff Schedule of the United States (HTSUS) under subheadings 7305.11.1030, 7305.11.5000, 7305.12.1030, 7305.12.5000, 7305.19.1030, 7305.19.5000, 7306.19.1010, 7306.19.1050, 7306.19.5110, and 7306.19.5150. The subject merchandise may also enter in HTSUS 7305.11.1060 and 7305.12.1060. While the HTSUS subheadings are provided for convenience and customs purposes, the written description of the scope of these orders is dispositive.

Analysis of Comments Received

All issues raised in these sunset reviews are addressed in the Issues and Decision Memorandum.⁶ The issues discussed in the Issues and Decision Memorandum are the likelihood of continuation or recurrence of dumping and the magnitude of the dumping margins likely to prevail if the orders were revoked. The Issues and Decision Memorandum is a public document and is on file electronically via Enforcement and Compliance's Antidumping and Countervailing Duty Centralized Electronic Service System (ACCESS). ACCESS is available to registered users at http://acess.trade.gov. A list of topics discussed in the Issues and Decision Memorandum is included as an appendix to this notice. In addition, a complete version of the Issues and Decision Memorandum can be accessed directly on the internet at http://enforcement.trade.gov/frn. The signed and electronic versions of the Issues and Decision Memorandum are identical in content.

⁶ See Memorandum, “Issues and Decision Memorandum for the Expedited First Sunset Reviews of the Antidumping Duty Orders on Welded Line Pipe from the Republic of Korea and the Republic of Turkey,” dated concurrently with, and hereby adopted by, this notice (Issues and Decision Memorandum).

Final Results of Reviews

Pursuant to sections 751(c)(1) and 752(c)(1) and (3) of the Act, Commerce determines that revocation of the AD orders on welded line pipe from Korea and Turkey would be likely to lead to the continuation or recurrence of dumping at weighted-average dumping margins up to 6.22 percent for Korea and up to 22.95 percent for Turkey.

Administrative Protective Order (APO)

This notice also serves as the only reminder to parties subject to an APO of their responsibility concerning the return or destruction of proprietary information disclosed under APO in accordance with 19 CFR 351.305. Timely notification of the return or destruction of APO materials or conversion to judicial protective orders is hereby requested. Failure to comply with the regulations and terms of an APO is a violation which is subject to sanction.

Notification to Interested Parties

We are issuing and publishing the final results and this notice in accordance with sections 751(c), 752(c), and 777(i)(1) of the Act, and 19 CFR 351.218.

Dated: February 19, 2021.
Christian Marsh,
Acting Assistant Secretary for Enforcement and Compliance.

Appendix—List of Topics Discussed in the Issues and Decision Memorandum

I. Summary

II. Background

III. Scope of the Orders

IV. History of the AD Orders

V. Legal Framework

VI. Discussion of the Issues

1. Likelihood of Continuation or Recurrence of Dumping

2. Magnitude of the Dumping Margins Likely to Prevail

VII. Final Results of Sunset Reviews

VIII. Recommendation

[FR Doc. 2021-04263 Filed 3-1-21; 8:45 am]

BILLING CODE 3510-DS-P